DEPARTMENT OF THE TREASURY

Community Development Financial Institutions Fund

Community Development Advisory Board Meeting

ACTION: Notice of open meeting.

SUMMARY: This notice announces the next meeting of the Community Development Advisory Board (the Advisory Board), which provides advice to the Director of the Community Development Financial Institutions Fund (the CDFI Fund). The meeting will be conducted via telephone conference call.

DATES: The meeting will be held from 2:00 p.m. to 3:00 p.m. Eastern Standard Time on Monday, January 30, 2017.

Submission of Written Statements: Participation in the discussions at the meeting will be limited to Advisory Board members, Department of the Treasury staff, and certain invited guests. Anyone who would like to have the Advisory Board consider a written statement must submit it by 5:00 p.m. Eastern Standard Time on Monday, January 23, 2017. Send paper statements to Bill Luecht, Senior Advisor, Office of Legislative and External Affairs, CDFI Fund, 1500 Pennsylvania Avenue NW., Washington, DC 20220. Send electronic statements to AdvisoryBoard@cdfi.treas.gov.

In general, the CDFI Fund will make all statements available in their original format, including any business or personal information provided such as names, addresses, email addresses, or telephone numbers, for public inspection, and photocopying at the CDFI Fund. The CDFI Fund is open on official business days between the hours of 9:00 a.m. and 5:00 p.m. You can make an appointment to inspect statements by emailing AdvisoryBoard@cdfi.treas.gov. All statements received, including attachments and other supporting materials, are part of the public record and subject to public disclosure. You should only submit information that you wish to make publicly available.

FOR FURTHER INFORMATION CONTACT: Bill Luecht, Senior Advisor, Office of Legislative and External Affairs, CDFI Fund, 1500 Pennsylvania Avenue NW., Washington, DC 20220, (202) 653-0322 (this is not a toll free number) or AdvisoryBoard@cdfi.treas.gov. Other information regarding the CDFI Fund and its programs may be obtained through the CDFI Fund's Web site at http://www.cdfifund.gov.

SUPPLEMENTARY INFORMATION: Section 104(d) of the Community Development Banking and Financial Institutions Act of 1994 (12 U.S.C. 4703(d)) established the Advisory Board. The charter for the Advisory Board has been filed in accordance with the Federal Advisory Committee Act, as amended (5 U.S.C. App.), and with the approval of the Secretary of the Treasury.

The function of the Advisory Board is to advise the Director of the CDFI Fund (who has been delegated the authority to administer the CDFI Fund) on the policies regarding the activities of the CDFI Fund. The Advisory Board shall not advise the CDFI Fund on the approving or declining any particular application for monetary or non-monetary awards. The Advisory Board shall meet at least annually.

It has been determined that this document is not a major rule as defined in Executive Order 12291 and therefore regulatory impact analysis is not required. In addition, this document does not constitute a rule subject to the Regulatory Flexibility Act (5 U.S.C. chapter 6).

In accordance with section 10(a) of the Federal Advisory Committee Act, 5 U.S.C. App. 2 and the regulations thereunder, Bill Luecht, Designated Federal Officer of the Advisory Board, has ordered publication of this notice that the Advisory Board will convene an open meeting which will be conducted via a telephone conference call from 2:00 p.m. to 3:00 p.m. Eastern Standard Time on Monday, January 30, 2017.

Public participation will be limited to 50 individual phone lines. Notification of intent to attend the meeting must be made via email to AdvisoryBoard@cdfi.treas.gov. The CDFI Fund will send confirmation of attendance and instructions for accessing the meeting to the first 50 individuals who submit notifications of intent. For more information, please call (202) 653-0322.

The Advisory Board meeting will include (i) a presentation to the full Advisory Board by an Advisory Board subcommittee on a plan to promote the knowledge and utilization of the Access to Capital and Credit in Native Communities report and (ii) deliberation on the recommendations contained therein.

Authority: 12 U.S.C. 4703.

Mary Ann Donovan,
Director, Community Development Financial Institutions Fund.

[FR Doc. 2017-00649 Filed 1-12-17; 8:45 am]

BILLING CODE 4810-70-P